ENVIRONMENTAL PROTECTION AGENCY

[FRL-10990-01-OMS]

Establishment of National Environmental Youth Advisory Council

AGENCY: Environmental Protection Agency (EPA).

ACTION: Notice; establishment of the National Environmental Youth Advisory Council.

SUMMARY: As required by the Federal Advisory Committee Act (FACA) that United States Environmental Protection Agency (EPA) is giving notice that it is establishing the National Environmental Youth Advisory Council (NEYAC). The purpose of this Council is to provide independent advice and recommendations to the EPA Administrator on how to increase EPA's efforts to address a range of environmental issues as they relate to youth communities, with an emphasis on communities below 29 years of age. The EPA has determined that this Federal advisory committee is necessary and in the public interest to provide a critical perspective on how the impacts of climate change and other environmental harms affects youth communities.

FOR FURTHER INFORMATION CONTACT: Grace Y. Smith in the Office of Public Engagement and Environmental Information in the Office of the Administrator (MC1448K) U.S. Environmental Protection Agency, 1200 Pennsylvania Avenue NW, Washington, DC 20460; telephone: (202) 564-2558; email address: smith.grace.y@epa.gov.

SUPPLEMENTARY INFORMATION: The National Environmental Youth Advisory Council will be established for a two-year period. Copies of the committee charter will be filed with the appropriate congressional committees and the Library of Congress.

Grace Y. Smith,
Program Manager.

[FR Doc. 2023-10572 Filed 5-17-23; 8:45 am]

BILLING CODE P